DEPARTMENT OF ENERGY

Federal Energy Regulatory Commission

Combined Notice of Filings #1

Take notice that the Commission received the following Complaints and Compliance filings in EL Dockets:

Docket Numbers: EL22-21-000.

Applicants: South Texas Electric Cooperative, Inc., San Bernard Electric Cooperative, Inc.

Description: Request of South Texas Electric Cooperative, Inc. and San Bernard Electric Cooperative, Inc. for Partial Waiver of Electric Utility Obligations Under PURPA to Purchase and Sell Energy From and To Qualifying Facilities.

Filed Date: 12/21/21.

Accession Number: 20211221-5277.

Comment Date: 5 p.m. ET 1/18/22.

Take notice that the Commission received the following electric rate filings:

Docket Numbers: ER10-1862-033; ER10-1865-014; ER10-1873-014; ER10-1875-014; ER10-1876-015; ER10-1878-014; ER10-1883-014; ER10-1884-014; ER10-1885-014; ER10-1888-014; ER10-1893-033; ER10-1934-033; ER10-1938-034; ER10-1941-014; ER10-1942-031; ER10-1947-015; ER10-2042-039; ER10-2985-037; ER10-3049-038; ER10-3051-038; ER11-4369-018; ER12-1987-012; ER12-2261-013; ER12-2645-007; ER13-1407-011; ER16-2218-019; ER17-696-019; ER19-1127-004; ER20-1699-002.

Applicants: Johanna Energy Center, LLC, Calpine King City Cogen, LLC, Calpine Energy Solutions, LLC, North American Power Business, LLC,CCFC Sutter Energy, LLC, Pastoria Energy Facility L.L.C., Russell City Energy Company, LLC,O.L.S. Energy-Agnews, Inc., North American Power and Gas, LLC, Champion Energy, LLC, Champion Energy Services, LLC, Champion Energy Marketing LLC, Calpine Energy Services, L.P., Otay Mesa Energy Center, LLC, Calpine Construction Finance Co., L.P., Calpine Gilroy Cogen, L.P., Calpine Power America—CA, LLC,CES Marketing IX, LLC,CES Marketing X, LLC, Creed Energy Center, LLC, Delta Energy Center, LLC, Geysers Power Company, LLC, Gilroy Energy Center, LLC, Goose Haven Energy Center, LLC, Los Esteros Critical Energy Facility, LLC, Los Medanos Energy Center LLC, Metcalf Energy Center, LLC, South Point Energy Center, LLC, Power Contract Financing, L.L.C.

Description: Updated Market Power Analysis (Southwest Region) for the indirect subsidiaries of Calpine Corporation.

Filed Date: 1/3/22.

Accession Number: 20220103-5491.

Comment Date: 5 p.m. ET 3/4/22.

Docket Numbers: ER10-3050-008; ER10-3053-008.

Applicants: Whitewater Hill Wind Partners, LLC, Cabazon Wind Partners, LLC.

Description: Triennial Market Power Analysis for Southwest Region of Cabazon Wind Partners, LLC, et al.

Filed Date: 1/3/22.

Accession Number: 20220103-5489.

Comment Date: 5 p.m. ET 3/4/22.

Docket Numbers: ER15-1332-008; ER10-2401-008; ER10-2402-008; ER10-2403-009; ER11-3414-009; ER13-1816-015; ER15-1333-008; ER17-1318-005; ER18-1188-004.

Applicants: Prairie Queen Wind Farm LLC, Redbed Plains Wind Farm LLC, Waverly Wind Farm LLC, Sustaining Power Solutions LLC, Blue Canyon Windpower VI LLC, Cloud County Wind Farm, LLC, Blue Canyon Windpower V LLC, Blue Canyon Windpower II LLC, Arbuckle Mountain Wind Farm LLC.

Description: Triennial Market Power Analysis for Southwest Power Pool Inc. Region of Arbuckle Mountain Wind Farm LLC, et al.

Filed Date: 1/3/22.

Accession Number: 20220103-5493.

Comment Date: 5 p.m. ET 3/4/22.

Docket Numbers: ER22-136-001.

Applicants: Sagebrush Line, LLC.

Description: Compliance filing: Compliance Filing of Executed Facilities Use Agreements to be effective 12/27/2021.

Filed Date: 1/5/22.

Accession Number: 20220105-5170.

Comment Date: 5 p.m. ET 1/26/22.

Docket Numbers: ER22-613-001.

Applicants: PJM Interconnection, L.L.C.

Description: Tariff Amendment: Amendment to Original WMPA, SA No. 6231; Queue No. AG2-392 to be effective 11/11/2021.

Filed Date: 1/5/22.

Accession Number: 20220105-5161.

Comment Date: 5 p.m. ET 1/26/22.

Docket Numbers: ER22-764-000.

Applicants: PJM Interconnection, L.L.C.

Description: § 205(d) Rate Filing: Original WMPA, Service Agreement No. 6273; Queue No. AG2-422 to be effective 12/7/2021.

Filed Date: 1/5/22.

Accession Number: 20220105-5050.

Comment Date: 5 p.m. ET 1/26/22.

Docket Numbers: ER22-765-000.

Applicants: Midcontinent Independent System Operator, Inc., Northern Indiana Public Service Company LLC.

Description: § 205(d) Rate Filing: Midcontinent Independent System Operator, Inc. submits tariff filing per 35.13(a)(2)(iii: 2022-01-05_SA 3765 NIPSCO-Dunns Bridge Energy Storage E&P (J1333 J1334 J1335) to be effective 1/1/2022.

Filed Date: 1/5/22.

Accession Number: 20220105-5058.

Comment Date: 5 p.m. ET 1/26/22.

Docket Numbers: ER22-766-000.

Applicants: Jersey Central Power & Light Company, PJM Interconnection, L.L.C.

Description: § 205(d) Rate Filing: Jersey Central Power & Light Company submits tariff filing per 35.13(a)(2)(iii: JCPL Submits IA No. 5947 to be effective 3/7/2022.

Filed Date: 1/5/22.

Accession Number: 20220105-5065.

Comment Date: 5 p.m. ET 1/26/22.

Docket Numbers: ER22-767-000.

Applicants: Jersey Central Power & Light Company, PJM Interconnection, L.L.C.

Description: § 205(d) Rate Filing: Jersey Central Power & Light Company submits tariff filing per 35.13(a)(2)(iii: JCPL Submits IA No. 5948 to be effective 3/7/2022.

Filed Date: 1/5/22.

Accession Number: 20220105-5089.

Comment Date: 5 p.m. ET 1/26/22.

Docket Numbers: ER22-768-000.

Applicants: Jersey Central Power & Light Company, PJM Interconnection, L.L.C.

Description: § 205(d) Rate Filing: Jersey Central Power & Light Company submits tariff filing per 35.13(a)(2)(iii: JCPL Submits IA No. 5946 to be effective 3/7/2022.

Filed Date: 1/5/22.

Accession Number: 20220105-5100.

Comment Date: 5 p.m. ET 1/26/22.

Docket Numbers: ER22-769-000.

Applicants: Alabama Power Company.

Description: § 205(d) Rate Filing: Tippsol (Tipperary Solar) LGIA Filing to be effective 12/20/2021.

Filed Date: 1/5/22.

Accession Number: 20220105-5104.

Comment Date: 5 p.m. ET 1/26/22.

Docket Numbers: ER22-770-000.

Applicants: Duke Energy Indiana, LLC.

Description: § 205(d) Rate Filing: DEI-Ameren—Rate Schedule No. 278—Construction Agreement to be effective 1/6/2022.

Filed Date: 1/5/22.

Accession Number: 20220105-5108.

Comment Date: 5 p.m. ET 1/26/22.

Docket Numbers: ER22-771-000.

Applicants: Louisville Gas and Electric Company.

Description: § 205(d) Rate Filing: EKPC Fourth Amended and Restated Interconnection Agreement to be effective 12/23/2021.

Filed Date: 1/5/22.

Accession Number: 20220105-5125.

Comment Date: 5 p.m. ET 1/26/22.

Docket Numbers: ER22-772-000.

Applicants: New York Independent System Operator, Inc.

Description: § 205(d) Rate Filing: 205: BSM Capacity Accreditation Market Design to be effective 3/6/2022.

Filed Date: 1/5/22.

Accession Number: 20220105-5146.

Comment Date: 5 p.m. ET 1/26/22.

Docket Numbers: ER22-773-000.

Applicants: Mulligan Solar, LLC.

Description: Baseline eTariff Filing: Mulligan Solar LLC MBR Application Filing to be effective 3/7/2022.

Filed Date: 1/5/22.

Accession Number: 20220105-5147.

Comment Date: 5 p.m. ET 1/26/22.

Take notice that the Commission received the following public utility holding company filings:

Docket Numbers: PH22-5-000.

Applicants: Starwood Energy Group Global, L.L.C.

Description: Starwood Energy Group Global, L.L.C., submits FERC 65-B Notice of Change in Fact to Waiver Notification.

Filed Date: 1/4/22.

Accession Number: 20220104-5193.

Comment Date: 5 p.m. ET 1/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2022.
Kimberly D. Bose,
Secretary.

[FR Doc. 2022-00360 Filed 1-11-22; 8:45 am]

BILLING CODE 6717-01-P